NUCLEAR REGULATORY COMMISSION

[Docket No. 50-305]

Nuclear Management Company, LLC; Notice of Withdrawal of Application for Amendment To Facility Operating License

The U.S. Nuclear Regulatory Commission (the Commission) has granted the request of the Nuclear Management Company, LLC (the licensee), to withdraw its January 14, 2002, application for proposed amendment to Facility Operating License No. DPR-43 for the Kewaunee Nuclear Power Plant, located in Kewaunee County, Wisconsin.

The proposed amendment would have revised the Technical Specification 3.10.f, “Inoperable Rod Position Indicator [IRPI] Channels,” to provide an allowed outage time for the IRPI system of 24 hours with more than one IRPI per group inoperable.

The Commission had previously issued a Notice of Consideration of Issuance of Amendment published in the Federal Register on February 19, 2002 (67 FR 7419). However, by letter dated January 8, 2003, the licensee withdrew the proposed change.

For further details with respect to this action, see the application for amendment dated January 14, 2002, and the licensee's letter dated January 8, 2003, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 10th day of January, 2003.
For the Nuclear Regulatory Commission.
John G. Lamb,
Project Manager, Section 1, Project Directorate III, Division of Licensing Project Management, Office of Nuclear Reactor Regulation.

[FR Doc. 03-987 Filed 1-15-03; 8:45 am]

BILLING CODE 7590-01-P